OFFICE OF PERSONNEL MANAGEMENT

Excepted Service

AGENCY: Office of Personnel Management.

ACTION: Notice.

SUMMARY: This notice identifies Schedule A, B, and C appointing authorities applicable to a single agency that were established or revoked from June 1, 2018 to June 30, 2018.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during June 2018.

Schedule B

No Schedule B Authorities to report during June 2018.

Schedule C

The following Schedule C appointing authorities were approved during June 2018.

Agency name | Organization name | Position title | Authorizatiion No. | Effective date
DEPARTMENT OF AGRICULTURE | Office of Animal and Plant Health Inspection Service | Confidential Assistant | DA180131 | 06/01/2018
| Office of the Assistant Secretary for Congressional Relations | Policy and Congressional Advisor | DA180175 | 06/08/2018
DEPARTMENT OF COMMERCE | Office of Executive Secretariat | Confidential Assistant | DC180136 | 06/01/2018
|  | Associate Director, Office of Executive Secretariat | DC180108 | 06/13/2018
| Office of Legislative and Intergovernmental Affairs | Director of Intergovernmental Affairs | DC180141 | 06/05/2018
| Office of Public Affairs | Deputy Press Secretary | DC180147 | 06/08/2018
| Office of the Deputy Assistant Secretary | Senior Advisor and Director of Strategic Initiatives | DC180148 | 06/08/2018
| Office of Bureau of Industry and Security | Director of Congressional and Public Affairs | DC180149 | 06/13/2018
| Office of White House Liaison | Confidential Assistant | DC180155 | 06/21/2018
DEPARTMENT OF DEFENSE | Office of the Assistant Secretary of Defense (Legislative Affairs) | Special Assistant for Legislative Affairs (2) | DD180091 DD180093 | 06/08/2018 06/08/2018
| Office of the Chief Management Officer | Special Assistant | DD180099 | 06/13/2018
DEPARTMENT OF THE AIR FORCE | Office of the Secretary | Special Assistant | DF180021 | 06/01/2018
DEPARTMENT OF THE ARMY | Office Assistant Secretary Army (Installations, Energy and Environment) | Confidential Assistant (Installations, Energy and Environment) | DW180037 | 06/21/2018
DEPARTMENT OF EDUCATION | Office of Elementary and Secondary Education | Confidential Assistant | DB180045 | 06/01/2018
| Office of the Under Secretary | Confidential Assistant | DB180050 | 06/21/2018
DEPARTMENT OF ENERGY | Office of Assistant Secretary for Energy Efficiency and Renewable Energy | Special Assistant | DE180086 | 06/08/2018
| Office of the Chief Financial Officer | Senior Advisor | DE180087 | 06/08/2018
| Office of Assistant Secretary for Congressional and Intergovernmental Affairs | Senior Advisor External Affairs Specialist | DE180106 DE180102 | 06/08/2018 06/14/2018
| Office of Assistant Secretary for International Affairs | Senior Advisor Senior Advisor for Operations | DE180094 DE180092 | 06/14/2018 06/21/2018
| Office of Public Affairs | Principal Deputy Press Secretary | DE180123 | 06/18/2018
| Office of the Secretary | Special Assistant | DE180118 | 06/21/2018
ENVIRONMENTAL PROTECTION AGENCY | Office of the Associate Administrator for Congressional and Intergovernmental Relations | Special Assistant for the Office of Congressional and Intergovernmental Relations (2) | EP180059 EP180067 | 06/13/2018 06/21/2018
| Office of Region VIII—Denver, Colorado | Attorney-Adviser (General) | EP180070 | 06/13/2018
FEDERAL DEPOSIT INSURANCE CORPORATION | Federal Deposit Insurance Corporation | Deputy for External Affairs | FD180002 | 06/22/2018
FEDERAL TRADE COMMISSION | Office of the Chairman | Technology Advisor | FT180008 | 06/04/2018
DEPARTMENT OF HEALTH AND HUMAN SERVICES | Office of the Secretary | Special Assistant (2) | DH180160 DH180126 | 06/01/2018 06/08/2018
|  | Director of Advance | DH180166 | 06/21/2018
|  | Policy Advisor (3) | DH180176 DH180177 DH180175 | 06/11/2018 06/13/2018 06/08/2018
| Office of Intergovernmental and External Affairs | Special Assistant | DH180162 | 06/08/2018
| Office of Centers for Medicare and Medicaid Services | Advisor for Medicare | DH180178 | 06/08/2018
| Office of the Assistant Secretary for Public Affairs | Director of Digital Media | DH180158 | 06/11/2018
| Office of the General Counsel | Associate Deputy General Counsel | DH180163 | 06/13/2018
| Office of Administration for Children and Families | Confidential Assistant | DH180164 | 06/13/2018
| Office of the Assistant Secretary for Financial Resources | Deputy Assistant Secretary, Congressional Relations | DH180168 | 06/18/2018
DEPARTMENT OF HOMELAND SECURITY | Office of the Assistant Secretary for Public Affairs | Deputy Press Secretary | DM180231 | 06/19/2018
DEPARTMENT OF HOUSING AND URBAN DEVELOPMENT | Office of Congressional and Intergovernmental Relations | Congressional Relations Specialist | DU180063 | 06/05/2018
| Office of the Deputy Secretary | Scheduler | DU180078 | 06/05/2018
| Office of Public Affairs | Assistant Press Secretary | DU180080 | 06/13/2018
| Office of the Chief Financial Officer | Senior Advisor | DU180072 | 06/18/2018
| Office of the Administration | Special Assistant | DU180081 | 06/21/2018
| Office of Housing | Policy Advisor | DU180082 | 06/21/2018
| Office of the General Counsel | Attorney Advisor | DU180083 | 06/25/2018
DEPARTMENT OF THE INTERIOR | Office of Bureau of Land Management | Advisor | DI180040 | 06/08/2018
| Office of Bureau of Reclamation | Advisor | DI180068 | 06/21/2018
DEPARTMENT OF JUSTICE | Office of the Attorney General | Special Assistant | DJ180101 | 06/13/2018
| Office of Legislative Affairs | Research Assistant | DJ180099 | 06/21/2018
DEPARTMENT OF LABOR | Office of the Deputy Secretary | Special Assistant | DL180095 | 06/01/2018
| Office of Labor-Management Standards | Senior Policy Advisor | DL180096 | 06/01/2018
| Office of Public Affairs | Deputy Press Secretary | DL180098 | 06/08/2018
|  | Communications Director | DL180106 | 06/14/2018
| Office of Mine Safety and Health Administration | Senior Advisor | DL180099 | 06/08/2018
| Office of Employment and Training Administration | Senior Policy Advisor | DL180101 | 06/08/2018
| Office of Veterans Employment and Training Service | Senior Advisor | DL180083 | 06/13/2018
| Office of the Assistant Secretary for Policy | Counsel and Policy Advisor | DL180085 | 06/13/2018
| Office of the Secretary | Special Assistant (2) | DL180093 DL180104 | 06/08/2018 06/21/2018
NATIONAL AERONAUTICS AND SPACE ADMINISTRATION | Office of Communications Office of the Administrator | Social Media Specialist Special Assistant | NN180033 NN180034 | 06/05/2018 06/05/2018
OFFICE OF MANAGEMENT AND BUDGET | Office of Legislative Affairs Office of the Director | Legislative Analyst Confidential Assistant | BO180027 BO180028 | 06/21/2018 06/21/2018
OFFICE OF NATIONAL DRUG CONTROL POLICY | Office of the Director | Special Advisor | QQ180006 | 06/21/2018
SMALL BUSINESS ADMINISTRATION | Office of Communications and Public Liaison | Deputy Press Secretary/Social Media Manager | SB180029 | 06/05/2018
| Office of Capital Access | Special Assistant | SB180030 | 06/08/2018
DEPARTMENT OF STATE | Bureau of Economic and Business Affairs | Senior Advisor | DS180045 | 06/08/2018
| Bureau of Legislative Affairs | Legislative Management Officer | DS180054 | 06/21/2018
DEPARTMENT OF TRANSPORTATION | Office of the Secretary | Senior Advisor for Policy Special Assistant for Scheduling and Advance | DT180054 DT180058 | 06/08/2018 06/21/2018
| Office of Public Affairs | Special Assistant | DT180056 | 06/22/2018
DEPARTMENT OF THE TREASURY | Department of the Treasury | Special Assistant (2) | DY180076 DY180075 | 06/01/2018 06/08/2018
|  | Senior Advisor | DY180079 | 06/13/2018
| Secretary of the Treasury | Special Assistant (Advance) (2) | DY180084 DY180085 | 06/14/2018 06/14/2018
DEPARTMENT OF VETERANS AFFAIRS | Office of the Secretary and Deputy | Senior Advisor and Veterans Service Organization Liaison | DV180034 | 06/13/2018
|  | Special Assistant Strategic Engagements | DV180037 | 06/29/2018
| Office of Veterans Benefits Administration | Deputy Chief of Staff | DV180036 | 06/21/2018

The following Schedule C appointing authorities were revoked during June 2018.

Agency name | Organization name | Position title | Request No. | Date vacated
DEPARTMENT OF AGRICULTURE | Office of the Under Secretary For Marketing and Regulatory Programs | Confidential Assistant | DA180093 | 06/09/2018
DEPARTMENT OF COMMERCE | Office of Economic Development Administration | Special Advisor | DC170063 | 06/09/2018
| Office of Public Affairs | Senior Public Affairs Coordinator | DC170052 | 06/09/2018
| Office of the General Counsel | Deputy General Counsel for Strategic Initiatives | DC170136 | 06/09/2018
| Office of Executive Secretariat | Associate Director, Office of Executive Secretariat | DC170067 | 06/23/2018
DEPARTMENT OF EDUCATION | Office of Communications and Outreach | Confidential Assistant Special Assistant | DB180004 DB180013 | 06/09/2018 06/11/2018
DEPARTMENT OF ENERGY | Office of Assistant Secretary for Congressional and Intergovernmental Affairs | Legislative Affairs Advisor (2) Advisor for Intergovernmental and External Affairs | DE170145 DE170093 DE170116 | 06/01/2018 06/23/2018 06/09/2018
|  | Special Advisor | DE170110 | 06/09/2018
| Office of the Secretary | Senior Support Specialist | DE180043 | 06/15/2018
|  | White House Liaison | DE170160 | 06/23/2018
DEPARTMENT OF HEALTH AND HUMAN SERVICES | Office of Intergovernmental and External Affairs | Regional Director, Dallas, Texas, Region VI | DH170233 | 06/08/2018
| Office of Centers for Medicare and Medicaid Services | Senior Advisor to the Principal Deputy Administrator for Medicare | DH180064 | 06/09/2018
|  | Special Assistant | DH180088 | 06/09/2018
| Office of the Assistant Secretary for Public Affairs | Director of Digital Media | DH170267 | 06/09/2018
DEPARTMENT OF JUSTICE | Office of Civil Rights Division | Chief of Staff and Counsel | DJ170180 | 06/16/2018
| Office of National Security Division | Counsel | DJ180003 | 06/22/2018
DEPARTMENT OF THE INTERIOR | Secretary's Immediate Office | Deputy Director, Office of External Affairs | DI170041 | 06/09/2018
DEPARTMENT OF THE TREASURY | Department of Treasury | Advance Representative (2) | DY170070 DY170068 | 06/23/2018 06/24/2018
NATIONAL AERONAUTICS AND SPACE ADMINISTRATION | Office of the Administrator Office of Legislative and Intergovernmental Affairs | White House Liaison Legislative Affairs Specialist | NN170039 NN170047 | 06/23/2018 06/26/2018
OFFICE OF THE SECRETARY OF DEFENSE | Office of the Director (Cost Assessment and Program Evaluation) | Special Assistant to the Director, Cost Assessment and Program Evaluation | DD170123 | 06/02/2018
| Office of the Assistant Secretary of Defense (Legislative Affairs) | Special Assistant to the Assistant Secretary of Defense (Legislative Affairs) (Chief, Policy) | DD170130 | 06/09/2018
| Office of the Assistant Secretary of Defense (Strategy Plans and Capabilities) | Special Assistant to the Assistant Secretary of Defense (Strategy Plans and Capabilities) | DD170171 | 06/16/2018
SMALL BUSINESS ADMINISTRATION | Office of Communications and Public Liaison | Deputy Press Secretary | SB170038 | 06/09/2018
| Office of Capital Access | Special Advisor | SB180027 | 06/24/2018

Authority: 5 U.S.C. 3301 and 3302; E.O. 10577, 3 CFR, 1954-1958 Comp., p. 218.

Office of Personnel Management.
Alexys Stanley,
Regulatory Affairs Analyst.

[FR Doc. 2019-04548 Filed 3-12-19; 8:45 am]

BILLING CODE 6325-39-P